DEPARTMENT OF COMMERCE

National Oceanic and Atmospheric Administration

50 CFR Part 622

[Docket No. 200127-0032]

RIN 0648-BG75

Fisheries of the Caribbean, Gulf of Mexico, and South Atlantic; Electronic Reporting for Federally Permitted Charter Vessels and Headboats in Atlantic Fisheries

AGENCY: National Marine Fisheries Service (NMFS), National Oceanic and Atmospheric Administration (NOAA), Commerce.

ACTION: Final rule; delay of effective date.

SUMMARY: NMFS is delaying the effective date of a final rule that published on February 24, 2020.

DATES: The effective date of the final rule amending 50 CFR part 622 that published at 85 FR 10331 on February 24, 2020, is delayed until January 4, 2021.

FOR FURTHER INFORMATION CONTACT: Karla Gore, NMFS Southeast Regional Office, telephone: 727-824-5305, or email: karla.gore@noaa.gov.

SUPPLEMENTARY INFORMATION: On February 24, 2020, NMFS published a final rule to implement management measures described in the For-hire Reporting Amendment, as prepared and submitted by the South Atlantic Fishery Management Council and Gulf of Mexico (Gulf) Fishery Management Council (Gulf Council), and that rule had an effective date of September 1, 2020 (85 FR 10331). That final rule establishes new, and revises existing, electronic reporting requirements for federally permitted charter vessels and headboats (for-hire vessels), respectively, in certain Atlantic fisheries. That final rule applies to an owner or operator of a for-hire vessel with a Federal permit for Atlantic Coastal Migratory Pelagic (CMP) species, Atlantic dolphin and wahoo, or South Atlantic snapper-grouper. The purpose of that final rule is to increase and improve fisheries information collected from federally permitted for-hire vessels in the Atlantic. The information is expected to improve recreational fisheries management of the for-hire component in the Atlantic. The For-hire Reporting Amendment amends three fishery management plans (FMPs), and includes Amendment 27 to the FMP for CMP Resources of the Gulf and Atlantic Region (CMP FMP), Amendment 9 to the FMP for the Dolphin and Wahoo Fishery of the Atlantic, and Amendment 39 to the FMP for the Snapper-Grouper Fishery of the South Atlantic Region. All of these FMPs are implemented by NMFS through regulations at 50 CFR part 622 under the authority of the Magnuson-Stevens Fishery Conservation and Management Act.

NMFS is now delaying the effective date of the final rule published on February 24, 2020, (85 FR 10331) to align the effective date with the effective date of a related final rule to address for-hire electronic reporting in the Gulf. The Gulf Council also developed amendments to the CMP FMP and the FMP for Reef Fish Resources of the Gulf of Mexico to address for-hire electronic reporting. A final rule to implement the Gulf FMP amendments published on July 21, 2020 (85 FR 44005), with an effective date of January 5, 2021.

NMFS is aligning the effective dates of the South Atlantic and Gulf final rules, to the extent practicable, to provide NMFS with additional time to promote compliance with the new reporting programs and to eliminate potential confusion about the applicable reporting program requirements. While an improvement over prior reporting measures, the new requirements are a substantial change from current practice, with potentially overlapping geographic requirements. Therefore, NMFS anticipates a need for additional time for fishermen to familiarize themselves with the new requirements. In addition, the recreational for-hire component has recently experienced closures of harbors and boat ramps, and other disruptions to obtaining supplies needed to operate their businesses. As a result, delaying the effective date will provide the for-hire component additional time to comply with the reporting requirements and will allow NMFS to continue its outreach efforts to assist the fishermen in meeting these new requirements.

Administrative Procedure Act

To the extent that 5 U.S.C. 553 applies to this action, it is exempt from notice and comment because it constitutes a rule of procedure under 5 U.S.C. 553(b)(A). Alternatively, the Assistant Administrator for NOAA Fisheries (AA) also finds that there is good cause to waive the requirements to provide prior notice and opportunity for public comment pursuant to the authority set forth in 5 U.S.C. 553(b)(B), because prior notice and opportunity for public comment on this temporary delay is unnecessary and contrary to the public interest. Such procedures are unnecessary because the rule that published at 85 FR 10331 on February 24, 2020, has already been subject to notice and comment, and all that remains is to notify the public of this delay in the effective date. Providing additional prior notice and opportunity for public comment is contrary to the public interest because there is a need to immediately implement this action to delay the September 1, 2020, effective date of the final rule and to provide notice of the delay to affected fishery participants. NMFS is temporarily delaying the effective date of the rule (see DATES section) to provide NMFS with additional time to promote compliance with the new reporting program and to eliminate potential confusion about the applicable reporting program requirements.

For these same reasons, the AA also finds good cause to waive the 30-day delay in the effectiveness of this action under 5 U.S.C. 553(d)(3).

Authority: 16 U.S.C. 1801 et seq.

Dated: August 4, 2020.
Donna S. Wieting,
Acting Deputy Assistant Administrator for Regulatory Programs, National Marine Fisheries Service.

[FR Doc. 2020-17341 Filed 8-6-20; 8:45 am]

BILLING CODE 3510-22-P